FEDERAL COMMUNICATIONS COMMISSION

[IB Docket No. 20-205; DA 21-81; FRS 17434]

Notice of 90-Day Period To Submit Affirmation of Continued Operation of the Identified Earth Station Antennas and of Intent To Participate in the C-Band Transition

AGENCY: Federal Communications Commission.

ACTION: Notice.

SUMMARY: In this document, the International Bureau (Bureau) provides the following notice to (1) operators of incumbent Fixed Satellite Service (FSS) C-band earth station antennas that have been reported as no longer operational and (2) incumbent FSS C-band earth station operators that have not responded to communications from RSM US LLP (RSM), the C-band Relocation Coordinator, and/or incumbent C-band satellite operators: Failure to submit a filing to the Bureau by no later than 90 days after the release of the Bureau's Notice (April 19, 2021) affirming the continued operation of the identified earth station antennas and the intent to participate in the C-band transition will result in a Bureau announcement that the authorizations identified in the attached documents filed by RSM in IB Docket No. 20-205 on January 14, 2021 have automatically terminated by operation of rule, and that those authorizations will be terminated in the International Bureau Filing System (IBFS) and removed from the incumbent earth station list.

DATES: Identified earth station operators must provide notice of operational status by April 19, 2021.

FOR FURTHER INFORMATION CONTACT: Kerry Murray, International Bureau, Satellite Division, at (202) 418-0734, Kerry.Murray@fcc.gov or IBFSINFO@fcc.gov.

SUPPLEMENTARY INFORMATION: This is a summary of the Commission's document, DA 21-81, released January 19, 2021. The full text of this document, along with the attachments identifying the specific earth station antennas subject to automatic termination, is available for public inspection and can be downloaded at https://www.fcc.gov/document/ib-identifies-inactiveunresponsive-c-band-incumbent-earth-stations or by using the search function for Docket No. 20-205 on the Commission's ECFS page at www.fcc.gov/ecfs.

Background. Under the Commission's 3.7 GHz Band Report and Order, RSM is responsible for coordinating with the five incumbent C-band satellite operators—Eutelsat, Intelsat, SES, StarOne, and Telesat—to ensure that all incumbent earth stations are accounted for in the transition.¹ The overwhelming majority of incumbent earth stations have been claimed by the satellite operator from which they receive service and will be transitioned to the upper 200 megahertz of the band. Because the incumbent satellite operators do not necessarily have a direct customer relationship with each earth station receiving from their satellites, the satellite operators have conducted significant outreach to earth station operators to build, refine, and maintain their lists of claimed stations, which have been identified in each of the satellite operators' transition plans to the Commission.² A limited number of incumbent earth stations, however, remain unclaimed by any of the satellite operators. In these cases, RSM, as the C-band Relocation Coordinator, has conducted outreach and research to determine whether the earth station is still active and, if so, the satellite(s) from which the earth station receives its service so that it may assign, if possible, that earth station to a satellite operator for transition purposes.³ RSM states that it and the incumbent satellite operators regularly share the results of their respective outreach efforts to better coordinate the transition of incumbent earth stations.

¹ See Expanding Flexible Use of the 3.7 to 4.2 GHz Band, Report and Order and Order of Proposed Modification, 35 FCC Rcd 2343, 2391, paras. 116-23 (2020) (3.7 GHz Band Report and Order).

² See 47 CFR 27.1412(d) (transition plan requirements). The most recent status information on the satellite operators' transitions plans can be found in their respective quarterly reports filed in GN Docket No. 20-173 on December 31, 2020.

³ 3.7 GHz Band Report and Order, 35 FCC Rcd 2343, 2460, para. 313. To the extent an earth station antenna cannot be assigned to a satellite operator, RSM is ultimately responsible for recommending an earth station transition plan for that antenna and to assist, when necessary, the earth station by installing filters or hiring third parties to install such filters. 47 CFR 27.1413(c)(3)(ii).

On January 14, 2021, RSM submitted an ex parte filing that includes two lists of incumbent earth stations. The ex parte letter is provided as Attachment C to DA 21-81. In one list, Attachment A to DA 21-81, RSM identifies various individual earth station antennas that it reports, based on communications with earth station operators by RSM or satellite operators or both, as no longer operational at the site address and GPS coordinates provided in the latest incumbent earth station list.⁴ In the other list, Attachment B to DA 21-81, RSM identifies earth station operators (and associated antennas) that it reports as unresponsive to multiple and varied C-band transition outreach efforts by RSM, the satellite operators, or both, via email, phone, and, in some cases, certified mail.

⁴ See International Bureau Releases Updated List of Incumbent Earth Stations in the 3.7-4.2 GHz Band in the Contiguous United States, Public Notice, DA 20-1424, IB Docket No. 20-205 (rel. Nov. 30, 2020) and Erratum to International Bureau Releases Updated List of Incumbent Earth Stations in the 3.7-4.2 GHz Band in the Contiguous United States, Public Notice, DA 20-1448, IB Docket No. 20-205 (rel. Dec. 3, 2020) for the current incumbent earth station list and an explanation of the criteria applied to be included on the list.

Reported inactive earth station antennas. RSM and/or the incumbent satellite operators have reported that, based on their communications with the relevant earth station operators, the incumbent earth station antennas identified in Attachment A are no longer operational. Under the Commission's rules, antennas must continue to be operational to qualify for incumbent status.⁵

⁵ 47 CFR 25.138(c)(1).

We hereby presume that earth station antennas reported to us as inactive on Attachment A are no longer operational. Section 25.161(c) of the Commission's rules provides that an earth station authorization is automatically terminated if the station is not operational for more than 90 days.⁶ We also note that the Commission's rules require earth station operators to take the steps necessary to remove non-operational antennas from the active records in the International Bureau Filing System (IBFS).⁷

⁶ See 47 CFR 25.161(c). The Bureau has delegated authority to enforce the Part 25 rules. 47 CFR 0.261(a)(15).

⁷ 47 CFR 25.115(b)(8).

We direct earth station operators with incumbent earth station antennas reported to Commission staff as inactive to make either of two filings no later than 90 days after release of this Notice (April 19, 2021): (1) File to remove those antennas from IBFS as no longer operational as required by Commission rule, or (2) file in Electronic Comment Filing System (ECFS) IB Docket No. 20-205 to assert that those antennas are still operational. An earth station operator may contact Bureau staff at IBFSINFO@fcc.gov if it wants advice on how to make a filing in ECFS, if it needs instructions on how to surrender entire Callsigns in IBFS or how to remove an inactive earth station antenna from a Callsign that includes other operational earth station antennas, or if it has other questions about the above.

Earth station operators that do not respond by April 19, 2021 to affirm the continued operation of the identified earth station antennas will be deemed to have had the authorizations for those antennas automatically terminated by rule. Those authorizations will be terminated in IBFS, i.e., the IBFS records for those antennas will be shown with a terminated status. Such terminated earth stations will also be removed from the incumbent earth station list and will not be entitled to protection from interference from the network deployments of new wireless licenses or be eligible for reimbursement of any transition costs, including the cost of any filters, that those earth stations may decide to incur.

Unresponsive earth station operators (and associated antennas). Based on their failure to respond to multiple contact attempts by RSM and the incumbent satellite operators, we hereby presume that the incumbent earth station antennas identified in Attachment B as associated with unresponsive earth station operators have ceased operations. Section 25.161(c) of the Commission's rules provide that an earth station authorization is automatically terminated if the station is not operational for more than 90 days.⁸

⁸ 47 CFR 25.161(c).

To confirm whether or not these unresponsive station operators have discontinued the operation of these earth station antennas, we direct the operators of earth stations on the list whose facilities continue to be operational to submit a notification, by no later than 90 days after release of this Public Notice (i.e., no later than April 19, 2021), affirming that these facilities remain operational and that they intend to participate in the C-band transition. Operators should submit this notification to the Bureau in ECFS IB Docket No. 20-205. In providing this response, an earth station operator affirming that the identified earth station antennas remain operational should identify the satellite from which each antenna is receiving service. Commission staff will forward all affirmations of continued operation to the Relocation Coordinator and/or relevant satellite operator(s), who will contact affirming earth station operators directly to initiate the transition. An earth station operator may contact Bureau staff at IBFSINFO@fcc.gov if it wants advice on how to make a filing in ECFS.

Earth station operators that do not respond by April 19, 2021 to affirm the continued operation of the identified earth station antennas will be deemed to have had the authorizations for those antennas automatically terminated by rule. Those authorizations will be terminated in IBFS. Such terminated earth stations will also be removed from the incumbent earth station list and will not be entitled to protection from interference from the network deployments of new wireless licenses or be eligible for reimbursement of any transition costs, including the cost of any filters, that those earth stations may decide to incur.

Federal Communications Commission.
Troy Tanner,
Deputy Chief, International Bureau.

[FR Doc. 2021-03408 Filed 2-18-21; 8:45 am]

BILLING CODE 6712-01-P